DEPARTMENT OF HOMELAND SECURITY

Coast Guard

33 CFR Part 117

[Docket Number USCG-2009-0591]

Drawbridge Operation Regulations; Illinois Waterway, Beardstown, IL

AGENCY: Coast Guard, DHS.

ACTION: Notice of temporary deviation from regulations.

SUMMARY: The Commander, Eighth Coast Guard District has issued a temporary deviation from the regulation governing the operations of the Burlington Northern Santa Fe Railroad Bridge, Mile 88.8, at Beardstown, Illinois across the Illinois Waterway. The deviation is necessary to allow time for upgrade of the lift drive mechanism which only can be done when the bridge is in the closed-to-navigation position. This deviation allows the bridge to remain closed-to-navigation during the 60-hour period July 27-29, 2009.

DATES: This deviation is effective from 8 a.m., July 27 to 8 p.m., July 29, 2009.

ADDRESSES: Documents mentioned in this preamble as being available in docket are part of docket USCG-2009-0591 and are available online by going to www.regulations.gov, selecting the Advanced Docket Search option on the right side of the screen, inserting USCG-2009-0591 in the docket ID box, pressing Enter, and then clicking on the item on the Docket ID column. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Roger K. Wiebusch, Bridge Administrator, Coast Guard; telephone (314) 269-2378 or Roger.K.Wiebusch@uscg.mil. If you have questions on viewing the docket, call Renee V. Wright, Program Manager, Docket Operations, telephone (202) 366-9826.

SUPPLEMENTARY INFORMATION: The Burlington Northern Santa Fe Railway Company requested a temporary deviation for the Burlington Northern Santa Fe (BNSF) Railroad Bridge, mile 88.8, at Beardstown, Illinois across the Illinois Waterway. It has a vertical clearance of 19.6 feet above normal pool in the closed position. The BNSF Railroad Bridge currently operates in accordance with 33 CFR 117.393(a) which requires that the bridge be maintained in the open-to-navigation position; closing only when a train needs to transit the bridge.

The deviation period is from 8 a.m., July 27 to 8 p.m., July 29, 2009 when the draw span will be maintained in the closed-to-navigation position. During this time the lift drive mechanism will be inoperative. The draw span will not be returned to its fully open position until the lift drive mechanism is fully operational on August 2, 2009. During the period July 30-August 2, 2009 span openings will be coordinated with rail traffic closures and efforts to return the bridge to normal operations. Both commercial vessels and recreational watercraft use the waterway. Most commercial vessels can not pass underneath the bridge while it is in the closed position. Only vessels having a low-clearance profile will be able to pass under the span while in the closed position. There are no alternate routes for vessels transiting this section of the Illinois Waterway. Minimal impact to navigation is expected.

In accordance with 33 CFR 117.393(a), the drawbridge shall return to its normal operating schedule immediately at the end of the designated time period. This deviation from the operating regulations is authorized under 33 CFR 117.35(c).

Dated: June 6, 2009.
Roger K. Wiebusch,
Bridge Administrator.

[FR Doc. E9-17196 Filed 7-20-09; 8:45 am]

BILLING CODE 4910-15-P